ENVIRONMENTAL PROTECTION AGENCY

[FRL-7903-2]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1663.04; Compliance Assurance Monitoring Program; in 40 CFR part 54; was approved 03/24/2005; OMB Number 2060-0376; expires 03/31/2007.

EPA ICR No. 1695.08; Emissions Certification and Compliance Requirements for Nonroad Spark-ignition Engines; in 40 CFR part 90, subparts B, F, H, and M; 40 CFR 90.711; 40 CFR 90.709 (e)(9); 40 CFR 704; 40 CFR 90.113; 40 CFR 90.1203; 40 CFR 90.1204; 40 CFR part 1048; 40 CFR part 1051; 40 CFR part 1065; 40 CFR part 1068; was approved 03/08/2005; OMB Number 2060-0338; expires 03/31/2008.

EPA ICR No. 1284.07; NSPS for Polymeric Coating of Supporting Substrates Facilities; in 40 CFR part 60, subpart VVV; was approved 03/18/2005; OMB Number 2060-0181; expires 03/31/2008.

EPA ICR No. 1823.03; Reporting and Recordkeeping Requirements Under the Perfluorocompound (PFC) Reduction/Climate Partnership for the Semiconductor Industry; was approved 03/18/2005; OMB Number 2060-0382; expires 03/31/2008.

EPA ICR No. 1684.06; Emissions Certification and Compliance Requirements for Nonroad Compression-ignition Engines and On-highway Heavy Duty Engines; in 40 CFR part 90, subpart B; 40 CFR part 1048, subpart C; 40 CFR part 1051, subpart C; was approved 03/08/2005; OMB Number 2060-0287; expires 03/31/2008.

EPA ICR No. 2159.01; Background Checks for Contractor Employees; was approved 04/04/2005; OMB number 2030-0043; expires 09/30/2005.

EPA ICR No. 2183.01; Drug Testing for Contractor Employees; was approved 04/04/2005; OMB Number 2030-0044; expires 09/30/2005.

EPA ICR No. 1860.03; Assessment of Compliance Assistance Projects (Renewal); was approved 03/29/2005; OMB Number 2020-0015; expires 03/31/2008.

EPA ICR No. 1741.04; Correction of Misreported Chemical Substances on the Toxic Substances Control Act (TSCA) Chemical Substances Inventory; in 40 CFR part 710; was approved 02/14/2005; OMB Number 2070-0145; expires 02/29/2008.

Dated: April 13, 2005.
Oscar Morales,
Director Collection Strategies Division.

[FR Doc. 05-8191 Filed 4-22-05; 8:45 am]

BILLING CODE 6560-50-P